DEPARTMENT OF TRANSPORTATION

Office of the Secretary

Notice of Applications for Certificates of Public Convenience and Necessity and Foreign Air Carrier Permits Filed Under Subpart B (Formerly Subpart Q) During the Week Ending December 13, 2002

The following applications for certificates of public convenience and necessity and foreign air carrier permits were filed under subpart B (formerly subpart Q) of the Department of Transportation's procedural regulations (see 14 CFR 301.201 et. seq.).

The due date for answers, conforming applications, or motions to modify scope are set forth below for each application. Following the answer period DOT may process the application by expedited procedures. Such procedures may consist of the adoption of a show-cause order, a tentative order, or in appropriate cases a final order without further proceedings.

Docket Number: OST-1998-3477.

Date Filed: December 9, 2002.

Due Date for Answers, Conforming Applications, or Motion to Modify Scope: December 30, 2002.

Description: Application of United Parcel Service Co., pursuant to 49 U.S.C. 41101 and subpart B, requesting renewal of its certificate authorizing UPS to engage in the scheduled foreign air transportation of property and mail between any point or points in the United States and two points in Japan, and beyond each of those points to two points.

Docket Number: OST-1998-3491.

Date Filed: December 9, 2002.

Due Date for Answers, Conforming Applications, or Motion to Modify Scope: December 30, 2002.

Description: Application of Polar Air Cargo, Inc., pursuant to 49 U.S.C 41102 and subpart B, requesting renewal of its certificate of public convenience and necessity for route 727, authorizing it to provide scheduled foreign air transportation of property and mail between any point or points in the United States and two points in Japan, and beyond each of those points to one point.

Docket Number: OST-2002-14071.

Date Filed: December 13, 2002.

Due Date for Answers, Conforming Applications, or Motion to Modify Scope: January 3, 2003.

Description: Application of Westward Airways, Inc., pursuant to 49 U.S.C. 41102 and subpart B, requesting a certificate of public convenience and necessity authorizing interstate scheduled air transportation of persons, property, and mail within the State of Nebraska between Scottsbluff, North Platte, Lincoln, and Omaha.

Docket Number: OST-2002-14073.

Date Filed: December 13, 2002.

Due Date for Answers, Conforming Applications, or Motion to Modify Scope: January 3, 2003.

Description: Application of Kuwait Airways Corporation, pursuant to 49 U.S.C. 41302, 14 CFR part 211 and subpart B, requesting an amendment to its foreign air carrier permit to include authority to provide additional operations between Kuwait and New York, NY.

Dorothy Y. Beard,
Federal Register Liaison.

[FR Doc. 02-32271 Filed 12-23-02; 8:45 am]

BILLING CODE 4910-62-P